DEPARTMENT OF HEALTH AND HUMAN SERVICES

National Institutes of Health

Center for Scientific Review; Amended Notice of Meeting

Notice is hereby given of a change in the meeting of the Molecular Neuropharmacology and Signaling Study Section, February 4, 2010, 8 a.m. to February 5, 2010, 5 p.m., Hotel Monaco, 700 F Street, NW., Washington, DC 20001 which was published in the Federal Register on January 11, 2010, 75 FR 1397-1399.

The meeting will be one day only February 4, 2010, from 8 a.m. to 7 p.m. The meeting location remains the same. The meeting is closed to the public.

Dated: January 11, 2009.
Jennifer Spaeth,
Director, Office of Federal Advisory Committee Policy.

[FR Doc. 2010-857 Filed 1-15-10; 8:45 am]

BILLING CODE 4140-01-P